DEPARTMENT OF ENERGY

Federal Energy Regulatory Commission

[Docket No. EC00-99-001, et al.]

Public Service Company of New Mexico, et al.; Electric Rate and Corporate Regulation Filings

September 13, 2000.

Take notice that the following filings have been made with the Commission:

1. Public Service Company of New Mexico

[Docket No. EC00-99-001]

Take notice that on September 8, 2000, Public Service Company of New Mexico (P.M.) filed a supplement to its June 7, 2000 application under section 203 of the Federal Power Act concerning P.M.'s corporate restructuring to implement retail competition in New Mexico. P.M.'s supplement consists of a full and complete version of Exhibit H, the transaction documents required to effect its restructuring, and an explanation of a revision to the structure of the transaction, which P.M. claims would have an outcome identical to the original application. P.M. also filed a supplemental Attachment B to its original Application.

Comment date: September 29, 2000, in accordance with Standard Paragraph E at the end of this notice.

2. Southern California Edison Company, Nevada Power Company, and AES Mohave, LLC

[Docket No. EC00-132-000]

Take notice that on August 31, 2000, Southern California Edison Company (Edison), Nevada Power Company (Nevada Power) and AES Mohave, LLC tendered for filing an application under section 203 of the Federal Power Act for approval of the transfer of certain jurisdictional facilities in connection with the sale of Edison's and Nevada Power's interests in the Mohave generating station.

Comment date: October 2, 2000, in accordance with Standard Paragraph E at the end of this notice.

3. Monongahela Power Company, Allegheny Energy Supply Company, LLC, MP Transferring Agent, LLC, and MP Genco, LLC

[Docket No. EC00-135-000]

Take notice that on September 8, 2000, Monongahela Power Company (Monongahela), Allegheny Energy Supply Company, LLC (AE Supply), MP Transferring Agent, LLC, and MP Genco, LLC, filed a Joint Application Under Section 203 Of The Federal Power Act For The Disposition Of Jurisdictional Facilities. The application requests Commission authorization to permit Monongahela to transfer the following jurisdictional assets to AE Supply in connection with a corporate reorganization: (1) the shares of jurisdictional step-up transformers allocable to Monongahela's West Virginia and Ohio service areas; (2) securities evidencing Monongahela's ownership share of Allegheny Generating Company; (3) certain wholesale power purchase and supply agreements, including those jurisdictional agreements Monongahela may enter into between the date of the application and the date of the proposed corporate reorganization; and (4) Monongahela's pollution control and solid waste bonds associated with the transferred generating assets.

Comment date: September 29, 2000, in accordance with Standard Paragraph E at the end of this notice.

4. Madison Gas & Electric Company, Wisconsin Public Service Corp., American Transmission Company LLC

[Docket No. EC00-136-000]

Take notice that on September 8, 2000, Madison Gas & Electric Company and Wisconsin Public Service Corp. filed an application under Section 203 of the Federal Power Act for Commission authorization to transfer operational control and ownership of their transmission facilities to the American Transmission Company LLC. The proposed disposition is being made pursuant to Wisconsin's electric restructuring legislation.

Comment date: September 29, 2000, in accordance with Standard Paragraph E at the end of this notice.

5. Southwest Power Pool, Inc.

[Docket No. ER00-3293-000]

Take notice that on September 8, 2000, Southwest Power Pool, Inc. filed a Motion to Withdraw Unexecuted Service Agreements thereby amending its July 31, 2000 filing in the above-captioned proceeding, pursuant to Rule 215 of the Federal Energy Regulatory Commission's (Commission) Rules of Practice and Procedure, 18 CFR 285.215.

Comment date: September 29, 2000, in accordance with Standard Paragraph E at the end of this notice.

6. Commonwealth Edison Company

[Docket No. ER00-2946-001]

Take notice that on September 11, 2000, Commonwealth Edison Company (ComEd), tendered for filing an unexecuted Interconnection Agreement with Rocky Road Power, LLC (Rocky Road) in compliance with the Commission's August 25, 2000 “Order Conditionally Accepting for Filing Unexecuted Interconnection Agreement,” 92 FERC ¶ 61,175 (Order).

ComEd requests an effective date of June 27, 2000 in accordance with the Order. Copies of the filing were served on Rocky Road, the Illinois Commerce Commission and the official service list in Docket No. ER00-2946-000.

Comment date: October 2, 2000, in accordance with Standard Paragraph E at the end of this notice.

7. The Potomac Edison Company, PE Transferring Agent, L.L.C., PE Generating Company, L.L.C., Allegheny Energy Supply Company, L.L.C.

[Docket No. ER00-3373-001]

Take notice that on September 7, 2000, The Potomac Edison Company, PE Transferring Agent, L.L.C., PE Generating Company, L.L.C., and Allegheny Energy Supply Company, L.L.C., tendered for filing a supplement to the Assignment of Inter-Company Power Agreement filed with the Commission on August 7, 2000, in the above-referenced Docket.

Comment date: September 28, 2000, in accordance with Standard Paragraph E at the end of this notice.

8. Allegheny Energy Service Corporation on behalf of Allegheny Energy Supply Company, LLC

[Docket No. ER00-3615-000]

Take notice that on September 11, 2000, Allegheny Energy Service Corporation on behalf of Allegheny Energy Supply Company, LLC (Allegheny Energy Supply), tendered for filing Service Agreement No. 93 to add one (1) new Customer to the Market Rate Tariff under which Allegheny Energy Supply offers generation services.

Allegheny Energy Supply requests a waiver of notice requirements to make service available as of September 8, 2000 to the Borough of Summerhill.

Copies of the filing have been provided to the Public Utilities Commission of Ohio, the Pennsylvania Public Utility Commission, the Maryland Public Service Commission, the Virginia State Corporation Commission, the West Virginia Public Service Commission, and all parties of record.

Comment date: October 2, 2000, in accordance with Standard Paragraph E at the end of this notice.

9. Allegheny Energy Service Corporation on behalf of Allegheny Energy Supply Company, LLC

[Docket No. ER00-3616-000]

Take notice that on September 11, 2000, Allegheny Energy Service Corporation on behalf of Allegheny Energy Supply Company, LLC (Allegheny Energy Supply), tendered for filing Service Agreement No. 94 to add one (1) new Customer to the Market Rate Tariff under which Allegheny Energy Supply offers generation services.

Allegheny Energy Supply requests a waiver of notice requirements to make service available as of September 8, 2000 to Public Service Company of Colorado.

Copies of the filing have been provided to the Public Utilities Commission of Ohio, the Pennsylvania Public Utility Commission, the Maryland Public Service Commission, the Virginia State Corporation Commission, the West Virginia Public Service Commission, and all parties of record.

Comment date: October 2, 2000, in accordance with Standard Paragraph E at the end of this notice.

10. Allegheny Energy Service Corporation, on behalf of Allegheny Energy Supply Company, LLC (AE Supply)

[Docket No. ER00-3617-000]

Take notice that on September 11, 2000, Allegheny Energy Service Corporation on behalf of Allegheny Energy Supply Company, LLC (AE Supply), tendered for filing a Service Agreement with Monongahela Power Company, The Potomac Edison Company, and West Penn Power Company, d/b/a Allegheny Power, in order for Allegheny Power to purchase power to meet its obligations to supply emergency service under the terms of an operating agreement with Virginia Electric and Power Company.

AE Supply has requested a waiver of notice to make the Service Agreement effective on August 22, 2000.

Copies of the filing have been provided to the customer and to the Maryland Public Service Commission, the Public Utilities Commission of Ohio, the Pennsylvania Public Utility Commission, the Virginia State Corporation Commission, and the West Virginia Public Service Commission.

Comment date: October 2, 2000, in accordance with Standard Paragraph E at the end of this notice.

11. MidAmerican Energy Company

[Docket No. ER00-3618-000]

Take notice that on September 11, 2000, MidAmerican Energy Company (MidAmerican), 666 Grand Avenue, Des Moines, Iowa 50309, filed with the Commission four (4) Firm Transmission Service Agreement entered into by MidAmerican, as transmission provider, and MidAmerican, as wholesale merchant. Each Agreement is dated September 1, 2000 and has been entered into pursuant to MidAmerican's Open Access Transmission Tariff.

MidAmerican requests an effective date of November 1, 2000, for each Agreement and seeks a waiver of the Commission's notice requirement. MidAmerican has served a copy of the filing on the Iowa Utilities Board, the Illinois Commerce Commission and the South Dakota Public Utilities Commission.

Comment date: October 2, 2000, in accordance with Standard Paragraph E at the end of this notice.

12. Dominion Nuclear Marketing II, INC.

[Docket No. ER00-3619-000]

Take notice that on September 11, 2000, Dominion Nuclear Marketing II, Inc., tendered for filing its proposed FERC Electric Market-Based Sales Tariff and requested certain waivers of the Commission's regulations.

Comment date: October 2, 2000, in accordance with Standard Paragraph E at the end of this notice.

13. Dominion Nuclear Marketing I, INC.

[Docket No. ER00-3620-000]

Take notice that on September 11, 2000, Dominion Nuclear Marketing I, Inc., tendered for filing its proposed FERC Electric Market-Based Sales Tariff and certain waivers of the Commission's Regulations.

Comment date: October 2, 2000, in accordance with Standard Paragraph E at the end of this notice.

14. Dominion Nuclear Connecticut, Inc.

[Docket No. ER00-3621-000]

Take notice that on September 11, 2000, Dominion Nuclear Connecticut, Inc., tendered for filing its proposed FERC Market-Based Sales Tariff and requested certain waivers of the Commission's Regulations.

Comment date: October 2, 2000, in accordance with Standard Paragraph E at the end of this notice.

15. Rochester Gas and Electric Corporation

[Docket No. ER00-3622-000]

Take notice that on September 11, 2000, Rochester Gas and Electric Corporation (RG&E), tendered for filing a Market Based Service Agreement between RG&E and AES Eastern Energy, L.P. (Customer). This Service Agreement specifies that the Customer has agreed to the rates, term and conditions of RG&E's FERC Electric Rate Schedule, Original Volume No. 3 (Power Sales Tariff) accepted by the Commission (80 FERC ¶ 61,284) (1997)).

RG&E requests waiver of the Commission's sixty (60) day notice requirements and an effective date of August 28, 2000, Virginia Power Service Agreement.

RG&E has served copies of the filing on the New York State Public Service Commission and on the Customer.

Comment date: October 2, 2000, in accordance with Standard Paragraph E at the end of this notice.

16. Ameren Services Company

[Docket No. ER00-3623-000]

Take notice that on September 11, 2000, Ameren Services Company (Ameren), tendered for filing a copy of its Open Access Transmission Tariff of the Ameren Operating Companies (OATT) reformatted to conform with Order No. 614 but with no changes to the currently effective text. Ameren also filed four revised tariff sheets to make minor corrections to the current tariff.

Ameren seeks an effective date of September 12, 2000, for the reformatted, but textually unchanged, OATT and an effective date of September 13, 2000 for the four revised tariff sheets. Accordingly, Ameren seeks waiver of the Commission's notice requirements. Copies of the filing have been served on all parties to Ameren's two most recent OATT proceedings and on the Missouri Public Service Commission and the Illinois Commerce Commission.

Comment date: October 2, 2000, in accordance with Standard Paragraph E at the end of this notice.

17. PECO Energy Company

[Docket No. ER00-3635-000]

Take notice that on September 11, 2000, PECO Energy Company (PECO), tendered for filing the following Agreements between PECO and Liberty Electric Power, L.L.C. (Liberty) (a) an Interconnection Agreement, designated as Service Agreement 496 under PJM Interconnection L.L.C.'s FERC Electric Tariff Third Revised Volume No. 1, to be effective on the initial operation date, and (b) a Construction Agreement, designated as PECO's Rate Schedule FERC No. 139, to be effective on 13 September 2000.

Copies of this filing were served on Liberty, PJM and the Pennsylvania Public Utility Commission.

Comment date: October 2, 2000, in accordance with Standard Paragraph E at the end of this notice.

18. California Independent System Operator Corporation

[Docket No. ER00-3636-000]

Take notice that on September 11, 2000, the California Independent System Operator Corporation (ISO), tendered for filing a proposed amendment (Amendment No. 30) to the ISO Tariff. Amendment No. 30 would, in compliance with the Commission's Order in San Diego Gas & Electric Company, et al., (92 FERC ¶ 61,172 (2000)), make certain changes to the ISO Tariff to permit the ISO to engage in limited forward contracting and to allocate the costs for those contracts to Scheduling Coordinators whose forward schedules do not reflect their actual real-time Demands.

The ISO asks for waiver of Section 35.3 of the Commission's Regulations to permit Amendment No. 30 to become effective upon its filing.

The ISO states that this filing has been served upon the Public Utilities Commission of California, the California Energy Commission, the California Electricity Oversight Board, and all parties with effective Scheduling Coordinator Agreements under the ISO Tariff.

Comment date: October 2, 2000, in accordance with Standard Paragraph E at the end of this notice.

19. New York Independent System Operator, Inc.

[Docket No. ER00-3638-000]

Take notice that on September 11, 2000, the New York Independent System Operator, Inc. (NYISO), on behalf of itself and the NEPOOL Participants, tendered for filing an Emergency Energy Transactions Agreement between it and the ISO New England, Inc., as agent for the NEPOOL Participants, pursuant to which either party may purchase emergency energy together with a Certificate of Concurrence executed by the NEPOOL Participants. The NYISO also filed a Notice of Cancellation of the Interconnection Agreement between the New England Power Pool and the New York Power Pool, dated April 4, 1977, as amended.

The parties request an effective date of August 14, 2000 and waiver of the Commission's notice requirements.

A copy of this filing was served upon the Parties to the New York Independent System Operator Agreement, the NEPOOL Participants, ISO New England, Inc. and upon the electric utility regulatory agencies in New York, New Jersey, Pennsylvania, Connecticut, Maine, Massachusetts, New Hampshire, Rhode Island and Vermont.

Comment date: October 2, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-24088 Filed 9-19-00; 8:45 am]

BILLING CODE 6717-01-P